DEPARTMENT OF TRANSPORTATION

Federal Aviation Administration

14 CFR Part 39

[Docket No. FAA-2007-26812; Directorate Identifier 2006-NM-199-AD; Amendment 39-15006; AD 2007-07-09]

RIN 2120-AA64

Airworthiness Directives; Airbus Model A318, A319, A320, and A321 Airplanes

AGENCY: Federal Aviation Administration (FAA), Department of Transportation (DOT).

ACTION: Final rule.

SUMMARY: The FAA is superseding an existing airworthiness directive (AD), which applies to certain Airbus Model A318-100, A319-100, A320-200, A321-100, and A321-200 series airplanes; and Model A320-111 airplanes. That AD currently requires modification of the electrical bonding of all structures and systems installed inside the center fuel tank. This new AD requires modification of additional bonding points inside the center fuel tank. This AD results from a report that additional bonding points need to be modified in order to prevent electrical arcing in the center fuel tank. We are issuing this AD to prevent electrical arcing in the center fuel tank due to inadequate bonding, which could result in an explosion of the center fuel tank and consequent loss of the airplane.

DATES: This AD becomes effective May 8, 2007.

The Director of the Federal Register approved the incorporation by reference of certain publications listed in the AD as of May 8, 2007.

On October 26, 2005 (70 FR 55228, September 21, 2005), the Director of the Federal Register approved the incorporation by reference of Airbus Service Bulletin A320-28-1104, Revision 01, dated December 8, 2004.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Tim Dulin, Aerospace Engineer, International Branch, ANM-116, FAA, Transport Airplane Directorate, 1601 Lind Avenue, SW., Renton, Washington 98057-3356; telephone (425) 227-2141; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2005-19-14, amendment 39-14279 (70 FR 55228, September 21, 2005). The existing AD applies to certain Airbus Model A318-100, A319-100, A320-200, A321-100, and A321-200 series airplanes; and Model A320-111 airplanes. That NPRM was published in the Federal Register on January 12, 2007 (72 FR 1467). That NPRM proposed to continue to require modification of the electrical bonding of all structures and systems installed inside the center fuel tank. That NPRM also proposed to require modification of additional bonding points inside the center fuel tank.

Comments

We provided the public the opportunity to participate in the development of this AD. No comments have been received on the NPRM or on the determination of the cost to the public.

Conclusion

We have carefully reviewed the available data and determined that air safety and the public interest require adopting the AD as proposed.

Costs of Compliance

The following table provides the estimated costs for U.S. operators to comply with this AD. There are approximately 720 U.S.-registered airplanes. The average labor rate is $80 per work hour.

Estimated Costs
Action | Work hours | Parts | Cost per airplane | Fleet cost
Modification of electrical bonding (required by AD 2005-19-14) | Between 49 and 64 | Between $10 and $370 | Between $3,930 and $5,490 | Between $2,829,600 and $3,952,800.
Modification of additional bonding points (new action) | Between 6 and 7 hours | $100 | Between $580 and $660 | Between $417,600 and $475,200.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14279 (70 FR 55228, September 21, 2005) and by adding the following new airworthiness directive (AD):

2007-07-09 Airbus: Amendment 39-15006. FAA-2007-26812; Directorate Identifier 2006-NM-199-AD.

Effective Date

(a) This AD becomes effective May 8, 2007.

Affected ADs

(b) This AD supersedes AD 2005-19-14.

Applicability

(c) This AD applies to Airbus Model A318, A319, A320, and A321 airplanes; certificated in any category; except airplanes that have received Airbus Modification 31892 in production.

Unsafe Condition

(d) This AD results from a report that additional bonding points need to be modified in order to prevent electrical arcing in the center fuel tank. We are issuing this AD to prevent electrical arcing in the center fuel tank due to inadequate bonding, which could result in an explosion of the center fuel tank and consequent loss of the airplane.

Compliance

(e) You are responsible for having the actions required by this AD performed within the compliance times specified, unless the actions have already been done.

Restatement of the Requirements of AD 2005-19-14

Modification

(f) Within 58 months after October 26, 2005 (the effective date of AD 2005-19-14): Modify the electrical bonding of all structures and systems installed inside the center fuel tank by accomplishing all of the actions in accordance with the Accomplishment Instructions of Airbus Service Bulletin A320-28-1104, Revision 01, dated December 8, 2004; Revision 02, dated February 21, 2005; or Revision 03, including Appendix 01, dated February 23, 2006. After the effective date of this AD, only Revision 03 may be used.

Actions Accomplished According to Previous Issue of the Service Bulletin

(g) Actions done before October 26, 2005, in accordance with Airbus Service Bulletin A320-28-1104, dated December 2, 2003, are acceptable for compliance with the corresponding requirements of paragraph (f) of this AD.

New Requirements of This AD

Modification (Additional Bonding Points)

(h) For airplanes on which the actions specified in Airbus Service Bulletin A320-28-1104, dated December 2, 2003; Revision 01, dated December 8, 2004; or Revision 02, dated February 21, 2005; have been done before the effective date of this AD: Within 78 months after the effective date of this AD, modify the electrical bonding of the structures and systems identified in the additional actions specified in paragraph 3.B.(3) of the Accomplishment Instructions of Airbus Service Bulletin A320-28-1104, Revision 03, including Appendix 01, dated February 23, 2006.

Alternative Methods of Compliance (AMOCs)

(i)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs approved previously in accordance with AD 2005-19-14, are approved as AMOCs for the corresponding provisions of paragraph (f) of this AD.

Related Information

(j) European Aviation Safety Agency airworthiness directive 2006-0176, dated June 26, 2006, also addresses the subject of this AD.

Material Incorporated by Reference

(k) You must use the service information identified in Table 1 of this AD, as applicable, to perform the actions that are required by this AD, unless the AD specifies otherwise.

Table 1.—All Material Incorporated by Reference
Airbus Service Bulletin | Revision level | Date
A320-28-1104 | 01 | December 8, 2004.
A320-28-1104 | 02 | February 21, 2005.
A320-28-1104, including Appendix 01 | 03 | February 23, 2006.

(1) The Director of the Federal Register approved the incorporation by reference of the documents identified in Table 2 of this AD in accordance with 5 U.S.C. 552(a) and 1 CFR part 51.

Table 2.—New Material Incorporated by Reference
Airbus Service Bulletin | Revision level | Date
A320-28-1104 | 02 | February 21, 2005.
A320-28-1104, including Appendix 01 | 03 | February 23, 2006.

(2) On October 26, 2005 (70 FR 55228, September 21, 2005), the Director of the Federal Register approved the incorporation by reference of Airbus Service Bulletin A320-28-1104, Revision 01, dated December 8, 2004.

(3) Contact Airbus, 1 Rond Point Maurice Bellonte, 31707 Blagnac Cedex, France, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on March 22, 2007.
Ali Bahrami,
Manager, Transport Airplane Directorate, Aircraft Certification Service.

[FR Doc. E7-5886 Filed 4-2-07; 8:45 am]

BILLING CODE 4910-13-P